DEPARTMENT OF COMMERCE

National Oceanic and Atmospheric Administration

[I.D. 042501F]

Endangered and Threatened Species; Take of Anadromous Fish

AGENCY: National Marine Fisheries Service (NMFS), National Oceanic and Atmospheric Administration (NOAA), Commerce.

ACTION: Notice of availability and request for comment.

SUMMARY: Notice is hereby given that the Oregon Department of Fish and Wildlife (ODFW) has submitted two Fisheries Management and Evaluation Plans (FMEP) pursuant to the protective regulations promulgated for Lower Columbia River (LCR) steelhead under the Endangered Species Act (ESA). The FMEPs specify the future management of inland recreational fisheries potentially affecting the LCR steelhead. This document serves to notify the public of the availability of the FMEPs for review and comment before a final approval or disapproval is made by NMFS.

DATES: Written comments on the draft FMEPs must be received at the appropriate address or fax number (see ADDRESSES) no later than 5 p.m. Pacific standard time on June 4, 2001.

ADDRESSES: Written comments and requests for copies of the draft FMEPs should be addressed to Richard Turner, Sustainable Fisheries Division, Hatchery and Inland Fisheries Branch, 525 N.E. Oregon Street, Suite 510, Portland, OR 97232 or faxed to 503-872-2737. The documents are also available on the Internet at http://www.nwr.noaa.gov/. Comments will not be accepted if submitted via e-mail or the Internet.

FOR FURTHER INFORMATION CONTACT: Richard Turner, Portland, OR at phone number 503-736-4737 or e-mail: rich.turner@noaa.gov.

SUPPLEMENTARY INFORMATION: This notice is relevant to the Lower Columbia River Steelhead (Oncorhynchus mykiss) Evolutionarily Significant Unit (ESU).

Background

ODFW has submitted to NMFS two FMEPs: (1) Hood River Basin Steelhead, Trout and Warmwater Fisheries, and (2) Lower Columbia River ESU Steelhead, Trout, Sturgeon and Warmwater Fisheries, for inland recreational fisheries potentially affecting listed adult and juvenile LCR steelhead. These include fisheries occurring in the Hood River; the lower Willamette River and tributaries, including the Clackamas River; the Columbia River tributaries from below the Hood River downstream to the North end of Sauvie Island (near the town of St. Helens, OR); and the Sandy River. The objective of these FMEPs is to harvest known, hatchery-origin steelhead and other fish species in a manner that does not jeopardize the survival and recovery of the LCR steelhead ESU. All fisheries included in these FMEPs will be managed such that only hatchery-origin steelhead that are adipose fin clipped may be retained. Impacts levels to listed LCR steelhead are specified in the FMEPs. Population viability analysis and risk assessments in the FMEPs indicate the extinction risk for listed steelhead under the proposed fishery impact levels to be low. A variety of monitoring and evaluation tasks are specified in the FMEPs to assess the abundance of steelhead, determine fishery effort and catch of steelhead and angler compliance. A review of compliance with the provisions of the FMEP will be conducted by ODFW annually and a comprehensive review to evaluate the effectiveness of the FMEPs will occur at a minimum every 5 years.

ODFW has provided NMFS a draft of the Conservation Assessment of Steelhead Populations in Oregon(Assessment) as part of the FMEP submittal. The Assessment provides the population viability analysis and risk assessment developed for ODFW’s FMEPs. This Assessment is also available for review and comment.

As specified in the July 10, 2000 ESA 4(d) rule for salmon and steelhead (65 FR 42422), NMFS may approve an FMEP if it meets criteria set forth in § 223.203 (b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to activities associated with fishery harvest provided that an FMEP has been approved by NMFS to be in accordance with the salmon and steelhead ESA 4(d) rule (65 FR 42422, July 10, 2000).

Dated: April 30, 2001.
Margaret Lorenz,
Acting Chief, Endangered Species Division, Office of Protected Resources, National Marine Fisheries Service.

[FR Doc. 01-11322 Filed 5-3-01; 8:45 am]

BILLING CODE 3510-22-S